DEPARTMENT OF TRANSPORTATION

Federal Aviation Administration

14 CFR Parts 121 and 135

[Docket No. FAA-2002-6717; Amendment Nos. 121-329, 135-108]

RIN 2120-AI03

Extended Operations (ETOPS) of Multi-Engine Airplanes

AGENCY: Federal Aviation Administration (FAA), DOT.

ACTION: Final rule; correction.

SUMMARY: The Federal Aviation Administration is correcting a final rule published in the Federal Register on January 16, 2007 (72 FR 1808). That final rule applied to air carrier (part 121), commuter, and on-demand (part 135) turbine powered multi-engine airplanes used in passenger-carrying, and some all-cargo, extended-range operations. This amendment adds the Office of Management and Budget (OMB) Information Collection Control Number indicating approval of the information collection requirements of the final rule. This amendment also makes three corrections: In part 135, it corrects the dual maintenance paragraph to conform to part 121 and deletes a redundant defining of “adequate airport”; in part 121 it corrects the rule language applicable to those persons who must accomplish and certify by signature the completion of ETOPS tasks; and in parts 121 and 135 it corrects the hours required for notification of maintenance problems based on an earlier FAA rulemaking. None of these changes is substantive, but will clarify the final rule for the affected public.

DATES: These amendments become effective May 10, 2007.

FOR FURTHER INFORMATION CONTACT: For technical information on operational issues, contact Robert Reich, Flight Standards Service, Federal Aviation Administration, 800 Independence Ave., SW, Washington, DC 20591; telephone (202) 267-8166; facsimile (202) 267-5229; e-mail Robert.Reich@faa.gov.

SUPPLEMENTARY INFORMATION:

Background

The final rule, Extended Operations (ETOPS) of Multi-engine Airplanes, applied to air carrier (part 121), commuter, and on-demand (part 135) turbine powered multi-engine airplanes used in passenger-carrying, extended-range operations. (January 16, 2007; 72 FR 1808) All-cargo operations in airplanes with more than two engines of both part 121 and part 135 were exempted from the majority of this rule. The rule established regulations governing the design, operation and maintenance of certain airplanes operated on flights that fly long distances from an adequate airport. It codified current FAA policy, industry best practices and recommendations, as well as international standards designed to ensure long-range flights will continue to operate safely. To ease the transition for current operators, the rule included delayed compliance dates for certain ETOPS requirements.

Information Collection Requirements Control Number

As required by the Paperwork Reduction Act of 1995 (44 U.S.C. 3507(d)), the FAA submitted a copy of the new information collection requirements in this final rule to the Office of Management and Budget for its review. OMB approved the collection of this information and assigned OMB Control Number 2120-0718.

Explanation of Corrections

Part 135 Conforming Changes for Appendix G

Following publication of the final rule, it was brought to the attention of the FAA that the concept of “dual maintenance” in the final rule did not codify existing FAA ETOPS guidance as published in the notice of proposed rulemaking. Essentially, the final rule would have prohibited the maintenance of more than one ETOPS significant system during the same maintenance visit. The FAA published a correction to the final rule on February 15, 2007, revising this language for part 121. (See 72 FR 7346; 15 February, 2007.) Today's amendment makes the same change for 14 CFR 135 in appendix G, section G135.2.8 (c). Section G135.2.8 (c) is changed to read:

“(c) Limitations on dual maintenance.

(1) Except as specified in paragraph G135.2.8 (c) (2) of this appendix, the certificate holder may not perform scheduled or unscheduled dual maintenance during the same maintenance visit on the same or a substantially similar ETOPS Significant System listed in the ETOPS maintenance document, if the improper maintenance could result in the failure of an ETOPS Significant System.

(2) In the event dual maintenance as defined in paragraph G135.2.8 (c) (1) of this appendix can not be avoided, the certificate holder may perform maintenance provided:

(i) The maintenance action on each affected ETOPS Significant System is performed by a different technician, or

(ii) The maintenance action on each affected ETOPS Significant System is performed by the same technician under the direct supervision of a second qualified individual; and

(iii) For either paragraph G135.2.8 (c) (2) (i) or (ii) of this appendix, a qualified individual conducts a ground verification test and any in-flight verification test required under the program developed pursuant to paragraph G135.2.8 (d) of this appendix.”

Also in part 135, the FAA notes a redundancy in § 135.364, Maximum flying time outside the United States. Paragraph (b) repeats the definition of “adequate airport”, which is found in section G135.1.1, and adds other references that may be confusing. Therefore, the FAA deletes paragraph (b) of this section as unnecessary to the final rule. Section 135.364 now reads—

“§ 135.364 Maximum flying time outside the United States.

After February 15, 2008, no certificate holder may operate an airplane, other than an all-cargo airplane with more than two engines, on a planned route that exceeds 180 minutes flying time (at the one-engine-inoperative cruise speed under standard conditions in still air) from an Adequate Airport outside the continental United States unless the operation is approved by the FAA in accordance with Appendix G of this part, Extended Operations (ETOPS).”

14 CFR 121.374(e), Task Identification

The second change is made to the language of section 121.374(e) that calls for an “appropriately certificated” mechanic to certify by signature that the ETOPS specific task has been performed. In the final rule, paragraph (e) of 14 CFR 121.374 reads—

“(e) Task identification. The certificate holder must identify all ETOPS-specific tasks. An appropriately certificated mechanic who is ETOPS Qualified must accomplish and certify by signature that the ETOPS-specific task has been completed.”

In the NPRM, the wording was for a “qualified mechanic” to perform this task. In reviewing the section, the FAA has determined that the appropriate term is “trained mechanic.” There is no specific ETOPS certification that a person could present to prove “certification” or “qualification,” but a properly “trained” mechanic who is “ETOPS qualified” is a term understood by the ETOPS community. Thus, section 121.374(e) now reads:

“(e) Task identification. The certificate holder must identify all ETOPS -specific tasks. An appropriately trained mechanic who is ETOPS qualified must accomplish and certify by signature that the ETOPS-specific task has been completed.”

Conforming Change—14 CFR 121.374(h)(1) and appendix G of 14 CFR 135 to 14 CFR 121.703(d)

The third change conforms the reporting hours in 14 CFR 121.374 and appendix G, section G135.2.8.(h), to a rule change in 14 CFR 121.703 (d) and 135.415 (d) that the FAA made just before the ETOPS rule was published.

On December 29, 2005 (70 FR 76974), the FAA amended 14 CFR parts 121.703(d) and 135.415(d), Service Difficulty Reports (SDR), to change the reporting time required from 72 hours to 96 hours. The FAA made this change to give operators more time to report, thus reducing the number of supplemental SDR that must be filed.

“(d) Each certificate holder shall submit each report required by this section, covering each 24-hour period beginning at 0900 local time of each day and ending at 0900 local time on the next day, to the FAA offices in Oklahoma City, Oklahoma. Each report of occurrences during a 24-hour period shall be submitted to the collection point within the next 96 hours. However, a report due on Saturday or Sunday may be submitted on the following Monday, and a report due on a holiday may be submitted on the next work day.”

So that the ETOPS rule is not in conflict with the SDR rule, the FAA amends section 121.374(h)(1) to read:

“(h) Reliability program * * *

(1) The certificate holder must report the following events within 96 hours of the occurrence to its certificate holding district office (CHDO):”

And, we make the same change in G135.2.8 (h):

“(h) Enhanced Continuing Analysis and Surveillance System (E-CASS) program. A certificate holder's existing CASS must be enhanced to include all elements of the ETOPS maintenance program. In addition to the reporting requirements of § 135.415 and § 135.417, the program includes reporting procedures, in the form specified in § 135.415(e), for the following significant events detrimental to ETOPS within 96 hours of the occurrence to the certificate holding district office (CHDO): * * *”

List of Corrections

Part 121—Section 121.374 (e) is re-written to clarify that that a “properly trained mechanic” is to certify ETOPS maintenance.

Part 121—In section 121.374(h)(1), “72 hours” is changed to “96 hours.”

Part 135—In section 135.364, paragraph (b) is deleted.

Part 135—In appendix G, section G135.2.8 (c) is changed to conform to section 121.374(c).

Part 135—In appendix G, in section G135.2.8(h), “72 hours” is changed to “96 hours”.

List of Subjects

14 CFR Part 121

Air carriers, Aircraft, Airmen, Alcohol abuse, Aviation safety, Drug abuse, Drug testing, Reporting and recordkeeping requirements, Safety, Transportation.

14 CFR Part 135

Air taxis, Aircraft, Airmen, Alcohol abuse, Aviation safety, Drug abuse, Drug testing, Reporting and recordkeeping requirements.

The Amendment

Accordingly, the Federal Aviation Administration amends 14 CFR parts 121 and 135 as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 44901, 44903-44904, 44912, 45101-45105, 46105, 46301.

2. In § 121.374, revise paragraphs (e) and (h)(1) introductory text to read as follows:

§ 121.374 Continuous airworthiness maintenance program (CAMP) for two-engine ETOPS.

* * * * *

(e) Task identification. The certificate holder must identify all ETOPS-specific tasks. An appropriately trained mechanic who is ETOPS qualified must accomplish and certify by signature that the ETOPS-specific task has been completed.

* * * * *

(h) * * *

(1) The certificate holder must report the following events within 96 hours of the occurrence to its certificate holding district office (CHDO):

* * * * *

PART 135—OPERATING REQUIREMENTS; COMMUTER AND ON DEMAND OPERATION AND RULES GOVERNING PERSONS ON BOARD SUCH AIRCRAFT

3. The authority citation for part 135 continues to read as follows:

Authority: 49 U.S.C. 106(g), 41706, 44113, 44701-44702, 44705, 44709, 44711-44713, 44715-44717, 44722.

4. Revise § 135.364 to read as follows:

§ 135.364 Maximum flying time outside the United States.

After February 15, 2008, no certificate holder may operate an airplane, other than an all-cargo airplane with more than two engines, on a planned route that exceeds 180 minutes flying time (at the one-engine-inoperative cruise speed under standard conditions in still air) from an Adequate Airport outside the continental United States unless the operation is approved by the FAA in accordance with Appendix G of this part, Extended Operations (ETOPS).

5. In appendix G of part 135, in section G135.2.8, revise paragraph (c) and the introductory text to paragraph (h) to read as follows:

Appendix G to Part 135—Extended Operations (ETOPS)

* * * * *

G135.2.8 Maintenance Program Requirements

* * * * *

(c) Limitations on dual maintenance. (1) Except as specified in paragraph G135.2.8(c)(2) of this appendix, the certificate holder may not perform scheduled or unscheduled dual maintenance during the same maintenance visit on the same or a substantially similar ETOPS Significant System listed in the ETOPS maintenance document, if the improper maintenance could result in the failure of an ETOPS Significant System.

(2) In the event dual maintenance as defined in paragraph G135.2.8(c)(1) of this appendix cannot be avoided, the certificate holder may perform maintenance provided:

(i) The maintenance action on each affected ETOPS Significant System is performed by a different technician, or

(ii) The maintenance action on each affected ETOPS Significant System is performed by the same technician under the direct supervision of a second qualified individual; and

(iii) For either paragraph G135.2.8(c)(2)(i) or (ii) of this appendix, a qualified individual conducts a ground verification test and any in-flight verification test required under the program developed pursuant to paragraph G135.2.8(d) of this appendix.

* * * * *

(h) Enhanced Continuing Analysis and Surveillance System (E-CASS) program. A certificate holder's existing CASS must be enhanced to include all elements of the ETOPS maintenance program. In addition to the reporting requirements of § 135.415 and § 135.417, the program includes reporting procedures, in the form specified in § 135.415(e), for the following significant events detrimental to ETOPS within 96 hours of the occurrence to the certificate holding district office (CHDO):

* * * * *

Issued in Washington, DC, on May 2, 2007.
Rebecca MacPherson,
Assistant Chief Counsel, Regulations Division.

[FR Doc. E7-8810 Filed 5-9-07; 8:45 am]

BILLING CODE 4910-13-P